ENVIRONMENTAL PROTECTION AGENCY

40 CFR Parts 52 and 70

[MO 112-1112; FRL-6956-8]

Approval and Promulgation of Implementation Plans and Part 70 Operating Permits Program; State of Missouri

AGENCY: Environmental Protection Agency (EPA).

ACTION: Proposed action.

SUMMARY: EPA proposes to approve revisions to the Missouri State Implementation Plan (SIP) and part 70 Operating Permits Program. EPA is approving revisions to Missouri's Definitions and Common Reference Tables rule and Operating Permits rule. These revisions will strengthen the SIP with respect to attainment and maintenance of established air quality standards, ensure consistency between the state and Federally approved rules, and ensure Federal enforceability of the state's air program rule revisions pursuant to both section 110 and part 70.

In the final rules section of the Federal Register, EPA is approving the state's submittals as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time.

DATES: Comments on this proposed action must be received in writing by April 23, 2001.

ADDRESSES: Comments may be mailed to Wayne Kaiser, Environmental Protection Agency, Air Planning and Development Branch, 901 North 5th Street, Kansas City, Kansas 66101.

FOR FURTHER INFORMATION CONTACT: Wayne Kaiser at (913) 551-7603.

SUPPLEMENTARY INFORMATION: See the information provided in the direct final rule which is located in the rules section of the Federal Register.

Dated: January 17, 2001.
Dennis Grams,
Regional Administrator, Region 7.

[FR Doc. 01-7024 Filed 3-22-01; 8:45 am]

BILLING CODE 6560-50-U